FEDERAL COMMUNICATIONS COMMISSION

47 CFR Part 1

[WT Docket No. 99-217; DA 01-2751]

Promotion of Competitive Networks in Local Telecommunications Markets

AGENCY: Federal Communications Commission.

SUMMARY: In this document, the Commission is requesting comments on the current state of the market for local and advanced telecommunications services in multitenant environments (“MTEs”). The comments requested will aid the Commission in gauging the effects of the rules implemented in the WT Docket No. 99-217 proceeding and of the Model Access Agreement and Best Practices Guide adopted by a real estate industry association.

DATES: Comments are due no later than February 1, 2002.

ADDRESSES: Parties who choose to file comments by paper should send comments to the Commission's Secretary, Magalie Roman Salas, Office of the Secretary, Federal Communications Commission, 445 12th Street, SW.; TW-A325; Washington, DC 20554. Comments filed through the Commission's Electronic Comment Filing System (ECFS) can be sent as an electronic file via the Internet to http://www.fcc.gov/e-file/ecfs.html.

FOR FURTHER INFORMATION CONTACT: Leon Jackler, Wireless Telecommunications Bureau at (202) 418-0946.

SUPPLEMENTARY INFORMATION: This is a summary of a document in WT Docket No. 99-217, DA 01-2751 that was released on November 30, 2001. The complete text of the document is available for inspection and copying during normal business hours in the FCC Reference Center, 445 12th Street, SW., Room CY-B402, Washington, DC 20554, telephone (202) 863-2893. The document is also available via the Internet at http://hraunfoss.fcc.gov/edocs_public/attachmatch/DA-01-2751A1.pdf.

On October 25, 2000, the Commission released a First Report and Order and Further Notice of Proposed Rulemaking (“Further Notice”) authorizing the Wireless Telecommunications Bureau to issue a public notice requesting additional information on the state of the market for local and advanced telecommunications services in multiple tenant environments (MTEs) eight months after the release of the Further Notice (66 FR 2322, January 11, 2001). The Commission in the Further Notice noted that an assessment of the market “would best be guided by information that measures the current state of the market * * * after a reasonable period of time has passed after the implementation of the Competitive Networks Order and the best practices proposed by the real estate industry.” On May 22, 2001, a real estate industry association released a set of best practices and a model contract for use in negotiating access agreements with carriers. In light of that development and a delay in the effective date of the new rules, the Bureau issued a public notice on June 25, 2001, postponing its request for additional information regarding the state of the market in order to allow sufficient opportunity to gauge the effects of the model access agreement, industry best practices, and Competitive Networks rules in the marketplace. Specifically, the Bureau stated its intent to issue a document on or about November 30, 2001.

Federal Communications Commission.
Magalie Roman Salas,
Secretary.

[FR Doc. 01-30867 Filed 12-13-01; 8:45 am]

BILLING CODE 6712-01-P